DEPARTMENT OF AGRICULTURE

National Institute of Food and Agriculture

Notice of Intent To Request Approval To Renew an Information Collection and Record Keeping Requirement

AGENCY: National Institute of Food and Agriculture, USDA.

ACTION: Notice and request for comments.

SUMMARY: In accordance with the Paperwork Reduction Act of 1995 and Office of Management and Budget (OMB) regulations that implement the Paperwork Reduction Act of 1995, this notice announces the National Institute of Food and Agriculture's (NIFA) intention to request approval to renew an information collection and record keeping requirement for the Veterinary Medical Loan Repayment Program (VMLRP).

DATES: Written comments on this notice must be received by September 6, 2019, to be assured of consideration. Comments received after that date will be considered to the extent practicable.

ADDRESSES: You may submit comments, identified by Veterinary Medicine Loan Repayment Program FRN, through the Federal eRulemaking Portal: http://www.regulations.gov. Follow the instructions for submitting comments. Include Veterinary Medicine Loan Repayment Program FRN in the subject line of the message. Instructions: All comments received must include the agency name and reference Veterinary Medicine Loan Repayment Program FRN. All comments received will be posted to http://www.regulations.gov, including any personal information provided.

FOR FURTHER INFORMATION CONTACT: Robert Martin, Records Officer; Email: rmartin@usda.gov. Phone: 202-445-5388.

SUPPLEMENTARY INFORMATION:

Title: Veterinary Medical Loan Repayment Program (VMLRP).

OMB Number: 0524-0050.

Type of Request: Intent to request approval to renew an information collection and record keeping requirement for three years.

Abstract: In January 2003, the National Veterinary Medical Service Act (NVMSA) was passed into law adding section 1415A to the National Agricultural Research, Extension, and Teaching Policy Act of 1997. This law established a new Veterinary Medicine Loan Repayment Program (VMLRP) (7 U.S.C. 3151a) authorizing the Secretary of Agriculture to carry out a program of entering into agreements with veterinarians under which they agree to provide veterinary services in veterinarian shortage situations. The purpose of the program is to assure an adequate supply of trained food animal veterinarians in shortage situations and provide USDA with a pool of veterinary specialists to assist in the control and eradication of animal disease outbreaks.

In 2016, the VMLRP Program Office proposed and received approval for a record keeping requirement for VMLRP participants and to collect additional information from current participants, their employers and past participants. The records maintained and the information collected allow for better oversight and assessment of the program. Additionally, to streamline OMB approval processes all previously approved VMLRP information collections (OMB Control Number 0524-0046 and 0524-0047) were combined into a single package along with the new information proposed. Each new requirement is described in detail below.

In 2019, the VMLRP Program is requesting renewal of this record keeping and information collection requirement. All documents will remain unchanged.

Total Estimate of Burden: The estimated annual reporting burden for all VMLRP collection is as follows:

Type of respondents | Number of respondents | Estimated number of responses per respondent | Average burden hours per response | Annual burden hours requested
Applicants:
Veterinary Medicine Loan Repayment Program Application OMB0524-0047 | 602 | 1 | 1350 | 1350
Applicants subtotal |  |  |  | 1350
State Animal Health Officials:
Veterinary Medicine Loan Repayment Program Shortage Situation Nomination OMB0524-0046 | 60 | 4 | 2 | 480
State Animal Health Officials subtotal |  |  |  | 480
Current Participants:
Service Log | 150 | 260 | .25 | 9750
Feedback Survey | 50 | 1 | .33 | 16.5
Close-out Report | 50 | 1 | .33 | 16.5
Current Participants subtotal |  |  |  | 9783
Employers:
Employer Feedback | 30 | 1 | .25 | 7.5
Employer subtotal |  |  |  | 7.5
Past Participants:
Post-Award Termination Survey | 150 | 1 | .25 | 37.5
Past Participants subtotal |  |  |  | 37.5
Grand Total |  |  |  | 11,658

Comments: Comments are invited on: (a) Whether the proposed record keeping requirement and collection of information are necessary for the proper performance of the functions of the Agency, including whether the information will have practical utility; (b) the accuracy of the Agency's estimate of the burden of the proposed collection of information; (c) ways to enhance the quality, utility, and clarity of the information to be collected; and (d) ways to minimize the burden of collecting the information on respondents, including through the use of appropriate automated, electronic, mechanical, or other technological collection techniques or other forms of information technology.

All responses to this notice will be summarized and included in the request to OMB for approval. All comments will become a matter of public record.

Obtaining a Copy of the Information Collection: A copy of the information collection and related instructions may be obtained free of charge by contacting Robert Martin as directed above.

Done at Washington, DC, this 27th day of June, 2019.
Steve Censky,
Deputy Secretary, U.S. Department of Agriculture.

[FR Doc. 2019-14387 Filed 7-5-19; 8:45 am]

BILLING CODE 3410-22-P